DEPARTMENT OF THE INTERIOR

Fish and Wildlife Service

[FWS-R9-IA-2009-N0114; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by June 29, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following application for a permit to conduct certain activities with endangered species. This notice is provided pursuant to Section 10(c) of the Endangered Species Act of 1973, as amended (16 U.S.C. 1531 et seq.). Submit your written data, comments, or requests for copies of the complete applications to the address shown in ADDRESSES.

Applicant: Dr. Paul D. Bienasz, New York, NY, PRT-212201

The applicant requests a permit to acquire from Coriell Cell Repositories, Camden, NJ, in interstate commerce fibroblast cell lines from lesser dwarf lemurs (Cheirogaleus medius) for the purpose of scientific research.

Marine Mammals

The public is invited to comment on the following application for a permit to conduct certain activities with endangered marine mammals and/or marine mammals. The application was submitted to satisfy requirements of the Endangered Species Act of 1973, as amended (16 U.S.C. 1531 et seq. and/or the Marine Mammal Protection Act of 1972, as amended (16 U.S.C. 1361 et seq.), and the regulations governing endangered species (50 CFR Part 17) and/or marine mammals (50 CFR Part 18). Submit your written data, comments, or requests for copies of the complete applications or requests for a public hearing on these applications to the address shown in ADDRESSES. If you request a hearing, give specific reasons why a hearing would be appropriate. The holding of such a hearing is at the discretion of the Director.

Applicant: University of Illinois Veterinary Diagnostic Laboratory, Maywood, IL, PRT-192878

The applicant requests a permit to acquire and import unlimited numbers of biological specimens of manatees (Trichechus spp.), dugong (Dugong dugon), sea otters (Enhydra lutris), marine otter (Lontra felina), walrus (Odobenus rosmarus), and polar bear (Ursus maritimus) from animals in the wild and in captivity for the purpose of scientific research. This notification covers activities to be conducted by the applicant over a five-year period.

Concurrent with publishing this notice in the Federal Register, we are forwarding a copy of the above application to the Marine Mammal Commission and the Committee of Scientific Advisors for their review.

Dated: May 22, 2009.
Lisa J. Lierheimer,
Senior Permit Biologist, Branch of Permits, Division of Management Authority.

[FR Doc. E9-12490 Filed 5-28-09; 8:45 am]

BILLING CODE 4310-55-S